MILLENNIUM CHALLENGE CORPORATION

[MCC FR 08-03]

Notice of Quarterly Report (October 1, 2007—December 31, 2007)

AGENCY: Millennium Challenge Corporation.

SUMMARY: The Millennium Challenge Corporation (MCC) is reporting for the quarter October 1, 2007 through December 31, 2007 with respect to both assistance provided under Section 605 of the Millennium Challenge Act of 2003 (Pub. L. 108-199, Division D (the Act)), and transfers or allocations of funds to other federal agencies pursuant to Section 619(b) of the Act. The following report shall be made available to the public by means of publication in the Federal Register and on the Internet Web site of the MCC (http://www.mcc.gov) in accordance with Section 612(b) of the Act.

Assistance Provided Under Section 605
Projects | Obligated | Objectives | Cumulative disbursements | Measures
Country: Madagascar Year: 2008
Entity to which the assistance is provided: MCA Madagascar Total Quarterly Disbursement: $0
Land Tenure Project | $37,803,000 | Increase Land Titling and Security | $4,308,910 | Legislative proposal reflecting the National Land Tenure Program submitted to Parliament and passed. Number of land disputes reported and resolved in the target zones and sites of implementation. Percentage of land documents inventoried, restored, and/or digitized.
|  |  |  | Average time and cost required to carry out property transactions.
|  |  |  | Percent of reported land conflicts resolved on titled land in zone 3, 4, 5 during the title regularization operations
|  |  |  | Percentage of land in the zones that is demarcated and ready for titling.
Finance Project | $35,888,000 | Increase Competition in the Financial Sector | $3,599,784 | The number of savings accounts and outstanding value of accounts from primary banks. Maximum check clearing delay. Volume of funds in payment system and number of transactions. Increased public awareness of new financial instruments as measured by surveys within intervention zones and large towns. The amount of government debt issued with maturities in excess of 52 weeks. The number of new individual investors buying government debt securities. The number of bank branches of the Central Bank of Madagascar capable of accepting auction tenders. Percentage of all loans included in the central database.
Agricultural Business Investment Project | $17,683,000 | Improve Agricultural Projection Technologies and Market Capacity in Rural Areas | $4,819,510 | Number of rural producers receiving or soliciting information from Agricultural Business Centers about the opportunities. Intervention zones identified and description of beneficiaries within each zone submitted. Number of visitors receiving information from National Coordinating Center with respect to business opportunities.
|  |  |  | Change in farm income due to improved production and marketing practices.
|  |  |  | Change in enterprise income due to improved production and marketing practices.
|  |  |  | Number of farmers and business employing technical assistance received.
Program Administration* and Control, Monitoring and Evaluation | $18,399,000 |  | $9,361,121
Pending subsequent reports** |  |  | $640,940
Country: Honduras Year: 2008 Quarter 1 Total Obligation: $215,000,000
Entity to which the assistance is provided: MCA Honduras Total Quarterly Disbursement: $3,952,445
Rural Development Project | $70,687,000 | Increase the productivity and business skills of farmers who operate small and medium-size farms and their employees | $9,461,696 | Increase in farm income resulting from Rural Development Project. Funds lent by MCA-Honduras to financial institutions. Increase in employment income resulting from Rural Development Project.
|  |  |  | Number of Program farmers harvesting high-value horticulture crops.
|  |  |  | Number of hectares harvesting high-value horticulture crops.
Transportation Project | $127,208,000 | Reduce transportation costs between targeted production centers and national, regional and global markets | $1,929,507 | Freight shipment cost from Tegucigalpa to Puerto Cortes. Price of basic food basket. Number of days per year road is passable.
Program Administration* and Control, Monitoring and Evaluation | $17,105,000 |  | $2,376,136
Pending subsequent reports** |  |  | $1,577,787
Country: Cape Verde Year: 2008
Entity to which the assistance is provided: MCA Cape Verde Total Quarterly Disbursement: $0
Watershed and Agricultural Support | $10,848,630 | Increase agricultural production in three targeted watershed areas on three islands | $291,362 | Increase in horticultural productivity. Increase in annual income. Value-added for farms and agribusiness.
Infrastructure Improvement | $78,760,208 | Increase integration of the internal market and reduce transportation costs | $6,154,186 | Volume of goods shipped between Praia and other islands. Mobility Ratio: Percentage of beneficiary population who take at least 5 trips per month. Savings on transport costs from improvements.
Private Sector Development | $7,200,000 | Spur private sector development on all islands through increased investment in the priority sectors and through financial sector reform | $14,641 | Value added in priority sectors above current trends. Volume of private investment in priority sectors above current trends.
Program Administration* and Control, Monitoring and Evaluation | $13,269,650 |  | $3,775,862 |
Pending subsequent reports** |  |  | $3,694,566 |
Country: Nicaragua Year: 2008 Quarter 1 Total Obligation: $175,000,000
Entity to which the assistance is provided: MCA Nicaragua Total Quarterly Disbursement: $4,669,211
Property Regularization Project | $26,400,000 | Increase investment by strengthening property rights | $1,358,563 | Value of investment on land. Value of urban land. Value of rural land.
|  |  |  | Number of days to conduct a land transaction.
|  |  |  | Total cost to conduct a land transaction.
Transportation Project | $92,800,000 | Reduce transportation costs between Leon and Chinandega and national, regional and global markets | $2,573,281 | Price of a basket of goods. Travel Time.
Rural Business Development Project | $33,500,000 | Increase the value added of farms and enterprises in the region | $3,997,215 | Annual percentage increase in value-added of clients of business office. Number of jobs created. Number of program farm plots harvesting higher-value crops or reforesting under improvement of Water Supply Activities.
Program Administration,* Due Diligence, Monitoring and Evaluation | $22,300,000 |  | $4,169,032 |
Pending subsequent reports** |  |  | $2,256,236 |
Country: Georgia Year: 2008 Quarter 1 Total Obligation: $294,693,400
Entity to which the assistance is provided: MCA Georgia Total Quarterly Disbursement: $8,618,845
Regional Infrastructure Rehabilitation | $211,700,000 | Key Regional Infrastructure Rehabilitated | $16,722,162 | Reduction in Akhalkalaki-Ninotsminda-Teleti journey time. Reduction in vehicle operating costs. Increase in internal regional traffic volumes. Decreased technical losses in gas through the main North-South pipeline. Reduction in the production of greenhouse gas emissions measured in tons of CO2 equivalent.
|  |  |  | Increased collection rate of the Georgian Gas Company (GOGC). Number of household beneficiaries served by Regional Infrastructure Development projects.
|  |  |  | Actual operations and maintenance expenditures.
Regional Enterprise Development | $47,500,000 | Enterprises in Regions Developed | $6,190,868 | Increase in annual revenue in portfolio companies. Increase in number of portfolio company employees and number of local suppliers. Increase in portfolio companies' wages and payments to local suppliers. Jobs created.
|  |  |  | Increase in aggregate incremental net revenue to project assisted firms.
|  |  |  | Direct household net income.
|  |  |  | Direct household net income for market information initiative beneficiaries.
|  |  |  | Number of beneficiaries.
Program Administration,* Due Diligence, Monitoring and Evaluation | 35,493,400 |  | $7,395,795 |
Pending subsequent reports** |  |  | $8,347,230 |
Country: Vanuatu Year: 2008 Quarter 1 Total Obligation: $65,690,000
Entity to which the assistance is provided: MCA Vanuatu Total Quarterly Disbursement: $0
Transportation Infrastructure Project | $60,615,232 | Facilitate transportation to increase tourism and business development | $63,685 | Number of Tourists. Number of days per year road is closed. Number of S-W Bay, Malekula flights cancelled per year due to flooding. Vessel wait time at wharf.
Program Administration,* Due Diligence, Monitoring and Evaluation | $5,074,768 |  | $1,608,111 |
Pending subsequent reports** |  |  | $334,812 |
Country: Armenia Year: 2008 Quarter 1 Total Obligation: $235,650,000
Entity to which the assistance is provided: MCA Armenia Total Quarterly Disbursement: $3,327,390
Irrigated Agriculture Project (Agriculture and Water) | $145,690,000 | Increase agricultural productivity Improve and Quality of Irrigation | $5,634,541 | Increase in hectares covered by high value added horticultural and fruit crops. Percentage of respondents satisfied with irrigation services. Share of Water User Association water charges as percentage of Water User Association annual operations and maintenance costs.
|  |  |  | Number of farmers using improved on-farm water management practices. Annual increase in irrigated land in Project area. State budget expenditures on maintenance of irrigation system. Value of loans provided under the project.
Rural Road Rehabilitation Project | $67,100,000 | Better access to economic and social infrastructure | $1,378,446 | Government budgetary allocations for routine maintenance of the entire road network Average daily traffic in Project area. Kilometers of Package 1 road sections rehabilitated.
|  |  |  | Kilometers of Package 2 road sections rehabilitated.
|  |  |  | Kilometers of Package 3 road sections rehabilitated.
Program Administration,* Due Diligence, Monitoring and Evaluation | $22,870,000 |  | $2,732,235 |
Pending subsequent reports ** |  |  | $1,515,257 |
Country: Benin Year: 2008 Quarter 1 Total Obligation: $307,298,040
Entity to which the assistance is provided: MCA Benin Total Quarterly Disbursement: $4,044,765
Access to Financial Services | $19,650,000 | Expand Access to Financial Services | $443,003 | Operational self-sufficiency of participating microfinance institutions. Number of microfinance institutions supervised by the microfinance cellule. Total incremental increase in value of new credit extended and savings received by financial institutions participating in the project.
|  |  |  | Share value of all loans outstanding that have one or more installments of principal over 30 days past due.
|  |  |  | Total number of loans guaranteed by land titles per year.
Access to Justice | $34,270,000 | Improved Ability of Justice System to Enforce Contracts and Reconcile Claims | $251,766 | Number of cases processed at the arbitration center. Percentage of all cases in the “Tribunal de Premiere Instance” courts per year. Percentage of all cases resolved in court of appeals per year.
|  |  |  | Average distance to reach TPI. Number of enterprises registered through the registration center.
|  |  |  | Average number of days required to register an enterprise.
Access to Land | $36,020,000 | Strengthen property rights and increase investment in rural and urban land | $2,299,452 | Total value of additional investments in target rural land parcels. Total value of additional investments in target urban land parcels.
Access to Markets | $169,447,000 | Improve Access to Markets through Improvements to the Port of Cotonou | $1,773,328 | Total metric tons of exports and imports passing through Port of Cotonou per year.
Program Administration,* Due Diligence, Monitoring and Evaluation | $47,911,040 |  | $4,577,954 |
Pending subsequent reports** |  |  | $8,126,902
Country: Ghana Year: 2008 Quarter 1 Total Obligation: $547,009,000
Entity to which the assistance is provided: MCA Ghana Total Quarterly Disbursement: $4,100,398
Agriculture Project | $242,352,550 | Enhance Profitability of cultivation, services to agriculture and product handling in support of the expansion of commercial agriculture among groups of smallholder farms | $2,743,432 | Number of hectares irrigated. Number of days to conduct a land transaction. Number of land disputes in the pilot registration districts. Registration of land rights in the pilot registration districts. Metric tons of products passing through post-harvest treatment.
|  |  |  | Portfolio-at-risk of agriculture loan fund.
|  |  |  | Value of loans disbursed to clients from agricultural loan fund.
|  |  |  | Number of additional loans.
|  |  |  | Vehicle operating costs on minor, medium and major rehabilitated roads.
Rural Development | $101,288,000 | Strengthen the rural institutions that provide services complementary to, and supportive of, agricultural and agriculture business development | $136,369 | Time/ quality per procurement. Score card of citizen satisfaction with services. Gross enrollment rates. Gender parity in school enrollment. Distance to collect water. Time to collect water. Distance to sanitation facility. Travel time to sanitation facility.
|  |  |  | Incidence of guinea worm, diarrhea or bilharzias.
|  |  |  | Average number of days lost due to guinea worm, diarrhea or bilharzias.
|  |  |  | Percentage of households, schools, and agricultural processing plants in target districts with electricity.
|  |  |  | Number of inter-bank transactions.
|  |  |  | Value of deposit accounts in rural banks.
Transportation | $141,735,500 | Reduce the transportation costs affecting agriculture commerce at sub-regional levels | $30,424 | Volume capacity ratio. Vehicles per hour at peak hour. Travel time at peak hour. International roughness index. Annual average daily vehicle and passenger traffic.
Program Administration,* Due Diligence, Monitoring and Evaluation | $61,632,950 |  | $3,257,906 |
Pending subsequent reports** |  |  | $7,272,608
Country: El Salvador Year: 2008 Quarter 1 Total Obligation: $460,939,996
Entity to which the assistance is provided: MCA El Salvador Total Quarterly Disbursement: $1,810,602
Human Development Project | $91,674,603 | Increase human and physical capital of residents of the Northern Zone to take advantage of employment and business opportunities. | $0 | Number of students enrolled in the Chalatenango Center functioning as a MEGATEC institute. Graduation rate of students enrolled in the Chalatenango Center functioning as a MEGATEC institute. Number of students enrolled in participating middle technical schools. Graduation rate of students enrolled in participating middle technical schools. Number of students enrolled in non-formal training activities.
|  |  |  | Graduation rate of students enrolled in non-formal training activities.
|  |  |  | Number of households with access to water in the Northern Zone.
|  |  |  | Number of households with access to basic sanitation in the Northern Zone.
|  |  |  | Number of households with electricity in the Northern Zone.
|  |  |  | Number of individuals that benefit annually from the strategic infrastructure projects.
Productive Development Project | $84,196,330 | Increase production and employment in the Northern Zone. | $0 | Investment in productive chains by selected beneficiaries.
Connectivity Project | $234,963,039 | Reduce travel cost and time within the Northern Zone, with the rest of the country, and within the region | $0 | Weighted average of the International Roughness Index for the rehabilitation of the Transnational Highway. Weighted average of the International Roughness Index for the rehabilitation of the network of connecting roads.
Program Administration * and Control, Monitoring and Evaluation | $50,106,024 |  | $0
Pending Subsequent Report ** |  |  | $4,034,819
Country: Mali Year: 2008 Quarter 1 Total Obligation $460,684,411
Entity to which the assistance is provided: MCA Mali Total Quarterly Disbursement: $1,485,669
Bamako Sénou Airport Improvement Project | $89,631,177 | Establish an independent and secure link to the regional and global economy | $263,697 | Number of weekly flight arrivals and departures. Average time for passengers to complete departures and arrivals procedures.
Industrial Park Project | $94,563,559 | Develop a platform for industrial activity to be located within the Airport domain. | $529,093 | Occupancy level. Average number of days required for operator to connect to Industrial Park water and electricity services.
Alatona Irrigation Project | $234,674,675 | Increase the agricultural production and productivity in the Alatona zone of the ON. | $0 | Weighted average of the International Roughness Index for the rehabilitation of the Niono-Goma Coura road. Annual average daily count of vehicles on the Niono-Goma Coura road. Total amount of land irrigated by the Project in the Alatona zone. Average water volume delivered at the farm level in the Alatona zone. Crop water requirements as a percentage share of water supply at the canal headworks in the Alatona Zone.
|  |  |  | Number of 5 and 10 hectare farm plots allocated in the Alatona zone.
|  |  |  | Total market garden parcels allocated in the Alatona zone.
|  |  |  | Number of titles registered in the land registration office granted to households in the Alatona zone.
|  |  |  | Number of students enrolled in schools established by the Project.
|  |  |  | Graduation rate of students enrolled in schools established by the Project.
|  |  |  | Number of farms adopting at least one new extension technique as a percentage of all farms receiving technical assistance under the Project.
|  |  |  | Total amount of credit extended in loan portfolios by participating microfinance institutions and banks in the Alatona zone.
|  |  |  | Number of active clients of microfinance institutions and banks in the Alatona zone.
Program Administration* and Control, Monitoring and Evaluation | $41,815,000 |  | $2,747,041 |
Pending Subsequent Report ** |  |  | $0
Country: Mozambique (CIF ONLY)¹ Year: 2008 Quarter1 Total Obligation: $25,346,200
Entity to which the assistance is provided: MCA Mozambique Total Quarterly Disbursement: $0
Water and Sanitation Project | N/A | Increase access to reliable and quality water and sanitation facilities | N/A | Value of productive days gained due to less diarrhea, cholera and/or malaria. School attendance days gained due to less diarrhea, cholera and/or malaria. Number (Percent) of businesses with access to improved water source. Reduction in time for rural/urban households to access improved water sources. Number (Percent) or urban households with access to improved water sources.
|  |  |  | Number (Percent) of rural households with access to improved water sources.
|  |  |  | Number (Percent) of urban households with access to improved sanitation facilities.
Road Rehabilitation Project | N/A | Increase access to productive resources and markets | N/A | Increase in agricultural production among communities affected by road rehabilitation works. Increase in the number of new businesses within 5 km of rehabilitated roads. Reduction in vehicle operating costs as a result of rehabilitated roads.
|  |  |  | Time savings due to a reduction in time to travel a fixed length of rehabilitated road.
|  |  |  | Weighted average of the International Roughness Index for the rehabilitation roads.
|  |  |  | Average annual daily traffic volume on rehabilitated roads disaggregated by vehicle type.
Land Tenure Services Project | N/A | Establish efficient, secure land access for households and investors | N/A | Increase (Percent) in value of new investments on land. Number of new businesses. Reduction (Percent) in time to right to land usage.
|  |  |  | More efficient, free and secure land transfers/transactions.
|  |  |  | Increase (Percentage) in parcel-holder land value.
|  |  |  | Reduction (Percent) in costs to right to land usage.
Farmer Income Support Project | N/A | Improve coconut productivity and diversification into cash | N/A | Reduction (Percentage) in loss of coconut production and coconut products' sales. Increased income (Percentage) from sales from intercropping activities to small farm plot holders.
|  |  |  | Increased number (Percentage) of live coconut trees.
|  |  |  | Increased productive capacity (Percentage) of coconut trees.
Program Administration* and Control, Monitoring and Evaluation | N/A |  | N/A |
Pending Subsequent Report** |  |  | N/A
Country: Lesotho (CIF ONLY) Year: 2008 Quarter 1 Total Obligation: $15,668,416
Entity to which the assistance is provided: MCA Lesotho Total Quarterly Disbursement: $30,000
Water Project | $4,913,000 | Improve the water supply for industrial and domestic needs, and enhance rural livelihoods through improved watershed management | N/A | Increased urban access to potable water supply. Increase in volume of water delivered after treatment at Metolong site. Decrease in percentage of urban water that is not accounted for (non-revenue losses plus physical losses).
|  |  |  | Number of people covered per year in rural areas with MCC funded rural water supply.
|  |  |  | Number of new VIP latrines provided to households.
Health Project | $4,436,000 | Increase access to life-extending ART and essential health services by providing a sustainable delivery platform | N/A | Increase in the percentage of health facilities providing full package of standard services for level of center (MoHSW 2007 standard). Increase in TB treatment success rate. Increase in the percentage of health facilities staffed with standard number and type of qualified staff (MoHSW 2007 standard). Increase in the number of patients treated in health centers in Lesotho.
|  |  |  | Increase in immunization rate (measles).
|  |  |  | Number of people receiving ARV treatment (number).
|  |  |  | Increase in annual enrollment at National Health Training College.
|  |  |  | Increase in average referred tests performed at the central laboratory per quarter during the past year.
|  |  |  | Increase in average number of blood units collected per quarter during the past year.
Private Sector Development Project | $710,000 | Stimulate investment by improving access to credit, reducing transaction costs and increasing the participation of women in the economy | $30,000 | Increase in the percentage of the adult population listed by a private credit bureau with current information on repayment history, unpaid debts or credit outstanding. Increase in the number of payments associated with salaries and pensions made through EFT per year.
|  |  |  | Land used as collateral (number of mortgage bonds registered).
|  |  |  | Land transaction costs (percent of property value).
|  |  |  | Land transaction times (median number of days necessary to complete a procedure).
|  |  |  | Increase in the number of pending civil cases in the High Court.
|  |  |  | Gender equality index (percent change in index of knowledge, attitudes, and practices for supporting gender equality in economic rights).
Program Administration* and Control, Monitoring and Evaluation | $5,609,416 |  | N/A
Pending Subsequent Report ** |  |  | N/A
Country: Morocco (CIF ONLY) Year: 2008 Quarter 1 Total Obligation: $32,400,000
Entity to which the assistance is provided: MCA Morocco Total Quarterly Disbursement: $0
Fruit Tree Productivity | $6,959,765 | TBD | N/A | TBD
Small Scale Fisheries | $7,005,874 | TBD | N/A | TBD
Artisan and Fez Medina | $6,142,437 | TBD | N/A | TBD
Financial Services | $500,000 | TBD | N/A | TBD
Program Administration* and Control, Monitoring and Evaluation | $11,271,924 | TBD | N/A | TBD
Pending Subsequent Report ** | N/A | TBD | N/A | TBD
*Program administration funds are used to pay items such as salaries, rent, and the cost of office equipment.
**These amounts represent disbursements made that will be allocated to individual projects in the subsequent quarter(s) and reported as such in subsequent quarterly report(s).

619(b) Transfer or allocation of funds: U.S. Agency to which funds were transferred or allocated | 619(b) Transfer or allocation of funds: Amount | 619(b) Transfer or allocation of funds: Description of program or project
USAID | $24,222,500 | Threshold Program.
¹ Beginning in fiscal year 2007, CIF (i.e., Compact Implementation Funding) is assistance made available to a country, upon signature of a compact, under the authority of Section 609(g) of the Act. It is additional to compact program assistance provided under Section 605 of the Act upon entry into force of the compact and is included in the overall total of compact funding. As of this report, only CIF funds have been obligated for Mozambique, Lesotho and Morocco.

Dated: April 16, 2008.
Matthew McLean,
Vice President, Congressional and Public Affairs, Millennium Challenge Corporation.

[FR Doc. E8-8590 Filed 4-18-08; 8:45 am]

BILLING CODE 9210-01-P